FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council which had originally been scheduled for Wednesday, December 5, 2018 has been postponed to a later date.

DATES: December 5, 2018 TAC meeting postponed and will now hold its meeting on Monday, January 14, 2019 from 10:00 a.m. to 4:00 p.m.

ADDRESSES: Commission Meeting Room at the Federal Communications Commission, 445 12th Street SW, Washington, DC 20554.

FOR FURTHER INFORMATION CONTACT: Walter Johnston, Chief, Electromagnetic Compatibility Division, 202-418-0807; Walter.Johnston@FCC.gov.

SUPPLEMENTARY INFORMATION: The meeting of the Technological Advisory Committee scheduled for Wednesday, December 5, 2018 was cancelled due to closure of all executive departments and agencies of the federal government on this date under an executive order issue by President Trump to mourn the death of the 41st President of the United States George H.W. Bush. This meeting is now rescheduled for Monday, January 14, 2019. At the January 14 meeting, which is the final meeting of the calendar year 2018 work program, the FCC Technological Advisory Council will discuss recommendations to the FCC Chairman on its work program agreed to at its initial meeting on April 12, 2018. Due to the exceptional nature of this rescheduling, the normal 15-day public notice period in the Federal Register may be waived. The FCC will attempt to accommodate as many people as possible. However, admittance will be limited to seating availability. Meetings are also broadcast live with open captioning over the internet from the FCC Live web page at http://www.fcc.gov/live/. The public may submit written comments before the meeting to: Walter Johnston, the FCC's Designated Federal Officer for Technological Advisory Council by email: Walter.Johnston@fcc.gov or U.S. Postal Service Mail (Walter Johnston, Federal Communications Commission, Room 2-A665, 445 12th Street SW, Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. Please allow at least five days advance notice; last minute requests will be accepted, but may not be possible to fill.

Federal Communications Commission.
Ronald T. Repasi,
Deputy Chief, Office of Engineering and Technology, Federal Communications Commission.

[FR Doc. 2018-27948 Filed 12-26-18; 8:45 am]

BILLING CODE 6712-01-P